DEPARTMENT OF ENERGY

Federal Energy Regulatory Commission

Combined Notice of Filings

Take notice that the Commission has received the following Natural Gas Pipeline Rate and Refund Report filings:

Filings Instituting Proceedings

Docket Numbers: RP11-2594-000.

Applicants: National Fuel Gas Supply Corporation.

Description: National Fuel Gas Supply Corporation submits tariff filing per 154.204: Rate Schedule PTR to be effective 10/27/2011.

Filed Date: 09/27/2011.

Accession Number: 20110927-5088.

Comment Date: 5 p.m. Eastern Time on Tuesday, October 11, 2011.

Docket Numbers: RP11-2595-000.

Applicants: Midwestern Gas Transmission Company.

Description: Petition of Midwestern Gas Transmission Company for a Limited Waiver of Tariff Provisions.

Filed Date: 09/27/2011.

Accession Number: 20110927-5137.

Comment Date: 5 p.m. Eastern Time on Tuesday, October 11, 2011.

Docket Numbers: RP11-2597-000.

Applicants: Gulf South Pipeline Company, LP.

Description: Gulf South Pipeline Company, LP submits tariff filing per 154.204: Questar 36601-7 Amendment to Negotiated Rate Agreement Filing to be effective 10/1/2011.

Filed Date: 09/28/2011.

Accession Number: 20110928-5033.

Comment Date: 5 p.m. Eastern Time on Tuesday, October 11, 2011.

Docket Numbers: RP11-2598-000.

Applicants: Gulf South Pipeline Company, LP.

Description: Gulf South Pipeline Company, LP submits tariff filing per 154.204: Virginia Nat Gas 34696-5 Amendment to Negotiated Rate Agreement Filing to be effective 10/1/2011.

Filed Date: 09/28/2011.

Accession Number: 20110928-5034.

Comment Date: 5 p.m. Eastern Time on Tuesday, October 11, 2011.

Docket Numbers: RP11-2599-000.

Applicants: Gulf South Pipeline Company, LP.

Description: Gulf South Pipeline Company, LP submits tariff filing per 154.204: Questar 37657-8, 9 Amendments to Negotiated Rate Agreement to be effective 10/1/2011.

Filed Date: 09/28/2011.

Accession Number: 20110928-5035.

Comment Date: 5 p.m. Eastern Time on Tuesday, October 11, 2011.

Docket Numbers: RP11-2600-000.

Applicants: Gulf South Pipeline Company, LP.

Description: Gulf South Pipeline Company, LP submits tariff filing per 154.204: HK 37731 to Texla 39107 Capacity Release Negotiated Rate Agreement Filing to be effective 10/1/2011.

Filed Date: 09/28/2011.

Accession Number: 20110928-5036.

Comment Date: 5 p.m. Eastern Time on Tuesday, October 11, 2011.

Docket Numbers: RP11-2601-000.

Applicants: Gulf South Pipeline Company, LP.

Description: Gulf South Pipeline Company, LP submits tariff filing per 154.204: Enbridge 34685 to Texla 39109 Capacity Release Negotiated Rate Agreement Filing to be effective 10/1/2011.

Filed Date: 09/28/2011.

Accession Number: 20110928-5037.

Comment Date: 5 p.m. Eastern Time on Tuesday, October 11, 2011.

Docket Numbers: RP11-2602-000.

Applicants: Gulf South Pipeline Company, LP.

Description: Gulf South Pipeline Company, LP submits tariff filing per 154.204: Enbridge 34685 to Texla 39116 Capacity Release Negotiated Rate Agreement Filing to be effective 10/1/2011.

Filed Date: 09/28/2011.

Accession Number: 20110928-5038.

Comment Date: 5 p.m. Eastern Time on Tuesday, October 11, 2011.

Docket Numbers: RP11-2603-000.

Applicants: Gulf South Pipeline Company, LP.

Description: Gulf South Pipeline Company, LP submits tariff filing per 154.204: Enbridge 34685 to Central Crude 39117 Capacity Release Negotiated Rate Agreement Filing to be effective 10/1/2011.

Filed Date: 09/28/2011.

Accession Number: 20110928-5039.

Comment Date: 5 p.m. Eastern Time on Tuesday, October 11, 2011.

Docket Numbers: RP11-2604-000.

Applicants: Big Sandy Pipeline, LLC.

Description: Big Sandy Pipeline, LLC submits tariff filing per 154.204: Negotiated Rate Agreements from Volume 1-A to be effective 9/28/2011.

Filed Date: 09/28/2011.

Accession Number: 20110928-5042.

Comment Date: 5 p.m. Eastern Time on Tuesday, October 11, 2011.

Docket Numbers: RP11-2605-000.

Applicants: Transcontinental Gas Pipe Line Company, LLC.

Description: Transcontinental Gas Pipe Line Company, LLC submits tariff filing per 154.204: Rate Schedule ESS and EESWS Reservation Charge Credits to be effective 11/1/2011.

Filed Date: 09/28/2011.

Accession Number: 20110928-5059.

Comment Date: 5 p.m. Eastern Time on Tuesday, October 11, 2011.

Docket Numbers: RP11-2606-000.

Applicants: Big Sandy Pipeline, LLC.

Description: Big Sandy Pipeline, LLC submits tariff filing per 154.602: Cancellation of Original Volume No. 1-A to be effective 9/28/2011.

Filed Date: 09/28/2011.

Accession Number: 20110928-5062.

Comment Date: 5 p.m. Eastern Time on Tuesday, October 11, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: September 28, 2011.
Nathaniel J. Davis, Sr.,
Deputy Secretary.

[FR Doc. 2011-25641 Filed 10-4-11; 8:45 am]

BILLING CODE 6717-01-P